DEPARTMENT OF COMMERCE

National Oceanic and Atmospheric Administration

RIN 0648-XF557

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Coastal Pelagic Species Management Team (CPSMT) will hold a meeting via webinar that is open to the public.

DATES: The CPSMT webinar will be held Wednesday, August 16, 2017, from 1 p.m. to 4 p.m. or until business for the day has been completed.

ADDRESSES: The meeting will be held via webinar. A public listening station is available at the Pacific Council office (see address below). To attend the webinar (1) join the meeting by visiting this link https://www.gotomeeting.com/webinar/join-webinar, (https://www.gotomeeting.com/webinar https://global.gotomeeting.com/join/955668125 (2) enter the Webinar ID: 430-720-091, and (3) enter your name and email address (required). After logging in to the webinar, please (1) dial this TOLL number 1-914-614-3221 (not a toll-free number), (2) enter the attendee phone audio access code 517-298-471, and (3) then enter your audio phone pin (shown after joining the webinar). Note: We have disabled Mic/Speakers as an option and require all participants to use a telephone or cell phone to participate. Technical Information and System Requirements: PC-based attendees are required to use Windows® 7, Vista, or XP; Mac®-based attendees are required to use Mac OS® X 10.5 or newer; Mobile attendees are required to use iPhone®, iPad®, Android™ phone or Android tablet (See the GoToMeeting WebinarApps). You may send an email to Mr. Kris Kleinschmidt at Kris.Kleinschmidt@noaa.gov or contact him at (503) 820-2280, extension 411 for technical assistance.

Council address: Pacific Fishery Management Council, 7700 NE Ambassador Place, Suite 101, Portland, OR 97220-1384.

FOR FURTHER INFORMATION CONTACT: Kerry Griffin, Pacific Council; telephone: (503) 820-2409.

SUPPLEMENTARY INFORMATION: The purpose of the meeting is to discuss and consider a draft Terms of Reference for the 2018 review of the National Oceanic and Atmospheric Administration acoustic-trawl survey methodology for Coastal Pelagic Species stocks. The CPSMT will also discuss future meeting planning and public comment may be taken at the discretion of the CPSMT Chair.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

This meeting is physically accessible to people with disabilities. Requests for sign language interpretation or other auxiliary aids should be directed to Mr. Kris Kleinschmidt at (503) 820-2411 at least 10 days prior to the meeting date.

Dated: July 25, 2017.
Tracey L. Thompson,
Acting Deputy Director, Office of Sustainable Fisheries, National Marine Fisheries Service.

[FR Doc. 2017-15934 Filed 7-27-17; 8:45 am]

BILLING CODE 3510-22-P